FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than September 23, 2025.

A. Federal Reserve Bank of St. Louis (Holly A. Rieser, Senior Manager) P.O. Box 442, St. Louis, Missouri 63166-2034. Comments can also be sent electronically to Comments.applications@stls.frb.org:

1. Louis B. Eckelkamp, Jr., as trustee of the Bonnie J. Eckelkamp 2020 Irrevocable Family Trust dtd 12/31/2020, both of Washington, Missouri; Bonnie J. Eckelkamp, as trustee of the Louis B. Eckelkamp, Jr. 2020 Irrevocable Family Trust dtd 12/01/2020, both of Washington, Missouri; Louis B. Eckelkamp, III, as trustee of the Louis B. Eckelkamp, Jr. 2020 Irrevocable Family Trust dtd 12/01/2020, Louis B. Eckelkamp III Revocable Living Trust UTA 6/12/1996, Michael Joseph Sinnott, Jr. Trust S, Matthew Louis Sinnott Trust S, and Elizabeth Michelle Sinnott Trust S, all of Washington, Missouri; Jeanna Eckelkamp Sinnott, individually and as trustee of the Bonnie J. Eckelkamp 2020 Irrevocable Family Trust dtd 12/31/2020, Sarah Jane Eckelkamp Trust S, Bonnie Laurent Eckelkamp Trust S, Louis Bernard Eckelkamp IV Trust S, and Anna Christina Eckelkamp Trust S, all of Washington, Missouri; Marilyn A. Eckelkamp, as trustee of the Marilyn A. Eckelkamp Revocable Trust dtd 7/21/14, both of Washington, Missouri; Wendy Eckelkamp Cordill, Oakbrook, Illinois, as trustee of the Wendy Eckelkamp Pace Revocable Trust dated 5/09/2014, Oakbrook, Illinois, and the Marilyn A. Eckelkamp Revocable Trust dtd 7/21/14, Marilyn A. Eckelkamp 2020 Irrevocable Family Trust, and two trusts for the benefit of a minor child, all of Washington, Missouri; Jill Eckelkamp Gildehaus, as trustee of the Marilyn A. Eckelkamp Revocable Trust dtd 7/21/14, Marilyn A. Eckelkamp 2020 Irrevocable Family Trust dtd 12/1/2020, Catherine Marie Pace Trust 21, Madeline Anne Pace Trust 21, Jill Eckelkamp Gildehaus Revocable Trust dtd 05/29/13, and three trusts for the benefit of a minor child, all of Washington, Missouri; William W. Eckelkamp Jr., as trustee of the Marilyn A. Eckelkamp Revocable Trust dtd 7/21/14, Marilyn A. Eckelkamp 2020 Irrevocable Family Trust dtd 12/1/2020, Catherine Marie Pace Trust 21, Madeline Anne Pace Trust 21, William Wood Eckelkamp, Jr. Revocable Trust U/A dtd 3/28/2013, and one trust for the benefit of a minor child, all of Washington, Missouri; Robert M. Tobben, as trustee of the Judith A. Tobben 2020 Irrevocable Family Trust dtd 12/01/2020, both of Washington, Missouri; Judith A. Tobben, as trustee of the Robert M. Tobben 2020 Irrevocable Family Trust dtd 12/31/2020, both of Washington, Missouri; Timothy W. Tobben, as trustee of the Judith A. Tobben 2020 Irrevocable Family Trust dtd 12/01/2020, Timothy W. Tobben Revocable Trust dtd 10/11/12, and nine trusts for the benefit of a minor child, all of Washington, Missouri; Thomas V. Tobben, as trustee of the Robert M. Tobben 2020 Irrevocable Family Trust dtd 12/31/2020, Thomas V. Tobben Revocable Trust dtd 7/8/10, and eight trusts for the benefit of a minor child, all of Washington, Missouri; Michael Tobben, St. Louis, Missouri, as trustee of the Michael R. Tobben Revocable Trust dtd 10/05/10, St. Louis, Missouri, and seven trusts for the benefit of a minor child, all of Washington, Missouri; Daniel Tobben, as trustee of the Daniel L. Tobben Revocable Trust dtd 6/10/15 and nine trusts for the benefit of a minor child, all of Washington, Missouri; and Susan E. Eckelkamp, as trustee of the Susan Ellen Eckelkamp Revocable Trust Dated 5/22/2023, both of St. Albans, Missouri; as the Eckelkamp Family Control Group, a group acting in concert, to retain voting shares of Diamond Bancorp, Inc., and thereby indirectly retain voting shares of Bank of Washington, both of Washington, Missouri.

2. Louis B. Eckelkamp, Jr., as trustee of the Bonnie J. Eckelkamp 2020 Irrevocable Family Trust dtd 12/31/2020, both of Washington, Missouri; Bonnie J. Eckelkamp, as trustee of the Louis B. Eckelkamp, Jr. 2020 Irrevocable Family Trust dtd 12/01/2020, both of Washington, Missouri; Louis B. Eckelkamp, III, as trustee of the Louis B. Eckelkamp, Jr. 2020 Irrevocable Family Trust dtd 12/01/2020, Michael Joseph Sinnott, Jr. Trust S, Matthew Louis Sinnott Trust S, and Elizabeth Michelle Sinnott Trust S, all of Washington, Missouri; Jeanna Eckelkamp Sinnott, as trustee of the Bonnie J. Eckelkamp 2020 Irrevocable Family Trust dtd 12/31/2020, Sarah Jane Eckelkamp Trust S, Bonnie Laurent Eckelkamp Trust S, Louis Bernard Eckelkamp IV Trust S, and Anna Christina Eckelkamp Trust S, all of Washington, Missouri; Wendy Eckelkamp Cordill, Oakbrook, Illinois, as trustee of the Wendy Eckelkamp Pace Revocable Trust dated 5/09/2014, Oakbrook, Illinois, and the William W. Eckelkamp Revocable Trust UDA 7/21/2024—Trust B, Marilyn A. Eckelkamp 2020 Irrevocable Family Trust, and two trusts for the benefit of a minor child, all of Washington, Missouri; Jill Eckelkamp Gildehaus, as trustee of the William W. Eckelkamp Revocable Trust UDA 7/21/2014—Trust B, the Marilyn A. Eckelkamp 2020 Irrevocable Family Trust, Catherine Marie Pace Trust 21, Madeline Anne Pace Trust 21, Jill Eckelkamp Gildehaus Revocable Trust dtd 05/29/13, and three trusts for the benefit of a minor child, all of Washington, Missouri; William W. Eckelkamp Jr., as trustee of the William W. Eckelkamp Revocable Trust UDA 7/21/2014—Trust B, the Marilyn A. Eckelkamp 2020 Irrevocable Family Trust, Catherine Marie Pace Trust 21, Madeline Anne Pace Trust 21, William Wood Eckelkamp, Jr. Revocable Trust U/A dtd 3/28/2013, and one trust for the benefit of a minor child, all of Washington, Missouri; Robert M. Tobben, as trustee of the Judith A. Tobben 2020 Irrevocable Family Trust dtd 12/01/2020, both of Washington, Missouri; Judith A. Tobben, as trustee of the Robert M. Tobben 2020 Irrevocable Family Trust dtd 12/31/2020, both of Washington, Missouri; Timothy W. Tobben, as trustee of the Judith A. Tobben 2020 Irrevocable Family Trust dtd 12/01/2020, Timothy W. Tobben Revocable Trust dtd 10/11/12, and nine trusts for the benefit of a minor child, all of Washington, Missouri; Thomas V. Tobben, as trustee of the Robert M. Tobben 2020 Irrevocable Family Trust dtd 12/31/2020, Thomas V. Tobben Revocable Trust dtd 7/8/10, and eight trusts for the benefit of a minor child, all of Washington, Missouri; Michael Tobben, St. Louis, Missouri, as trustee of the Michael R. Tobben Revocable Trust dtd 10/05/10, St. Louis, Missouri, and seven trusts for the benefit of a minor child, all of Washington, Missouri; Daniel Tobben, as trustee of the Daniel L. Tobben Revocable Trust dtd 6/10/15 and nine trusts for the benefit of a minor child, all of Washington, Missouri; and Susan E. Eckelkamp, as trustee of the Susan E. Eckelkamp Revocable Trust Dated 5/22/2023, both of St. Albans, Missouri; to join the Eckelkamp Family Control Group, a group acting in concert, and retain voting shares of Cardinal Bancorp, Inc., and thereby indirectly retain voting shares of CNB St. Louis Bank, both of Maplewood, Missouri.

3. Louis B. Eckelkamp, Jr., as trustee of the Bonnie J. Eckelkamp 2020 Irrevocable Family Trust dtd 12/31/2020, both of Washington, Missouri; Bonnie J. Eckelkamp, as trustee of the Louis B. Eckelkamp, Jr. 2020 Irrevocable Family Trust dtd 12/01/2020, both of Washington, Missouri; Louis B. Eckelkamp, III, as trustee of the Louis B. Eckelkamp, Jr. 2020 Irrevocable Family Trust dtd 12/01/2020, Louis B. Eckelkamp III Revocable Living Trust UTA 6/12/1996, Michael Joseph Sinnott, Jr. Trust S, Matthew Louis Sinnott Trust S, and Elizabeth Michelle Sinnott Trust S, all of Washington, Missouri; Jeanna Eckelkamp Sinnott, individually and as trustee of the Bonnie J. Eckelkamp 2020 Irrevocable Family Trust dtd 12/31/2020, Sarah Jane Eckelkamp Trust S, Bonnie Laurent Eckelkamp Trust S, Louis Bernard Eckelkamp IV Trust S, and Anna Christina Eckelkamp Trust S, all of Washington, Missouri; Marilyn A. Eckelkamp, as trustee of the Marilyn A. Eckelkamp Revocable Trust dtd 7/21/14, both of Washington, Missouri; Wendy Eckelkamp Cordill, Oakbrook, Illinois, as trustee of the Wendy Eckelkamp Pace Revocable Trust dated 5/09/2014, Oakbrook, Illinois, and the Marilyn A. Eckelkamp Revocable Trust dtd 7/21/14, the Marilyn A. Eckelkamp 2020 Irrevocable Family Trust, and two trusts for the benefit of a minor child, all of Washington, Missouri; Jill Eckelkamp Gildehaus, as trustee of the Marilyn A. Eckelkamp Revocable Trust dtd 7/21/14, the Marilyn A. Eckelkamp 2020 Irrevocable Family Trust, Catherine Marie Pace Trust 21, Madeline Anne Pace Trust 21, Jill Eckelkamp Gildehaus Revocable Trust dtd 05/29/13, and three trusts for the benefit of a minor child, all of Washington, Missouri; William W. Eckelkamp Jr., as trustee of the Marilyn A. Eckelkamp Revocable Trust dtd 7/21/14, Marilyn A. Eckelkamp 2020 Irrevocable Family Trust, Catherine Marie Pace Trust 21, Madeline Anne Pace Trust 21, William Wood Eckelkamp, Jr. Revocable Trust U/A dtd 3/28/2013, and one trust for the benefit of a minor child, all of Washington, Missouri; Robert M. Tobben, individually and as trustee of the Judith A. Tobben 2020 Irrevocable Family Trust dtd 12/01/2020, both of Washington, Missouri; Judith A. Tobben, individually and as trustee of the Robert M. Tobben 2020 Irrevocable Family Trust dtd 12/31/2020, both of Washington, Missouri; Timothy W. Tobben, as trustee of the Judith A. Tobben 2020 Irrevocable Family Trust dtd 12/01/2020, Timothy W. Tobben Revocable Trust dtd 10/11/12, and nine trusts for the benefit of a minor child, all of Washington, Missouri; Thomas V. Tobben, as trustee of the Robert M. Tobben 2020 Irrevocable Family Trust dtd 12/31/2020, Thomas V. Tobben Revocable Trust dtd 7/8/10, and eight trusts for the benefit of a minor child, all of Washington, Missouri; Michael Tobben, St. Louis, Missouri, as trustee of the Michael R. Tobben Revocable Trust dtd 10/05/10, St. Louis, Missouri, and seven trusts for the benefit of a minor child, all of Washington, Missouri; Daniel Tobben, as trustee of the Daniel L. Tobben Revocable Trust dtd 6/10/15 and nine trusts for the benefit of a minor child, all of Washington, Missouri; and Susan E. Eckelkamp, as trustee of the Susan E. Eckelkamp Revocable Trust Dated 5/22/2023, both of St. Albans, Missouri; as the Eckelkamp Family Control Group, a group acting in concert; to retain voting shares of Cardinal Bancorp II, Inc., Washington, Missouri, and thereby indirectly retain voting shares of United Bank of Union, Union, Missouri.

Board of Governors of the Federal Reserve System.
Michele Taylor Fennell,
Associate Secretary of the Board.

[FR Doc. 2025-17207 Filed 9-5-25; 8:45 am]

BILLING CODE P